FEDERAL MINE SAFETY AND HEALTH REVIEW COMMISSION

Senior Executive Service; Performance Review Board

AGENCY: Federal Mine Safety and Health Review Commission.

ACTION: Notice.

SUMMARY: This notice announces the appointment of the members of the Performance Review Board (PRB) for the Federal Mine Safety and Health Review Commission. The PRB reviews the performance appraisals of career and non-career senior executives. The PRB makes recommendations regarding proposed performance appraisals, ratings, bonuses, pay adjustments, and other appropriate personnel actions.

DATES: Applicable on December 9, 2022.

FOR FURTHER INFORMATION CONTACT: Tammy Russell, Acting Executive Director, Federal Mine Safety and Health Review Commission, (202) 434-9977.

SUPPLEMENTARY INFORMATION: This Notice announces the appointment of the following primary and alternate members to the Federal Mine Safety and Health Review Commission PRB:

Primary Members

Arturo Cardenas, Director of Programs, Railroad Retirement Board James Biggins, General Manager, Defense Nuclear Facilities Safety Board Christopher Roscetti, Technical Director, Defense Nuclear Facilities Safety Board.

Alternate Members

None.

Authority: 5 U.S.C. 4313(c)(4).

Tammy Russell,
Acting Executive Director, Federal Mine Safety and Health Review Commission.

[FR Doc. 2022-26792 Filed 12-8-22; 8:45 am]

BILLING CODE 6735-01-P